ENVIRONMENTAL PROTECTION AGENCY

40 CFR Parts 85, 86, 600, 1036, 1037, and 1039

[EPA-HQ-OAR-2025-0194; FRL-12744-01-OAR]

Public Hearing for Reconsideration of 2009 Endangerment Finding and Greenhouse Gas Vehicle Standards

AGENCY: Environmental Protection Agency (EPA).

ACTION: Notification of public hearing.

SUMMARY: The Environmental Protection Agency (EPA) is announcing a virtual public hearing to be held August 19 and 20, 2025, on its proposal for the “Reconsideration of 2009 Endangerment Finding and Greenhouse Gas Vehicle Standards,” which was signed on July 29, 2025. An additional session will be held on August 21, 2025 if necessary, to accommodate the number of testifiers that sign up to testify. EPA is proposing to rescind EPA's 2009 Greenhouse Gas Endangerment Finding and repeal all greenhouse gas (GHG) emission standards for light-duty, medium-duty, and heavy-duty vehicles and engines.

DATES: EPA will hold a virtual public hearing on August 19 and 20, 2025. An additional session will be held on August 21, 2025, if necessary to accommodate the number of testifiers that sign up. Please refer to the SUPPLEMENTARY INFORMATION section for additional information on the public hearing.

ADDRESSES: The public hearing for the proposed rule, “Reconsideration of 2009 Endangerment Finding and Greenhouse Gas Vehicle Standards,” will be help virtually. All hearing attendees (including those who do not intend to provide testimony) should notify the contact person listed under FOR FURTHER INFORMATION CONTACT by August 12, 2025, preferably by email to EPA-MobileSource-Hearings@epa.gov. Additional information regarding the hearing appears below under SUPPLEMENTARY INFORMATION.

FOR FURTHER INFORMATION CONTACT: Elizabeth Miller, Office of Transportation and Air Quality, Assessment and Standards Division (ASD), Environmental Protection Agency, 2000 Traverwood Drive, Ann Arbor, MI 48105; telephone number: (734) 214-4703; email address: EPA-MobileSource-Hearings@epa.gov.

SUPPLEMENTARY INFORMATION: In the action listed in this notice, the U.S. Environmental Protection Agency (EPA) is proposing to repeal all greenhouse gas (GHG) emission standards for light-duty, medium-duty, and heavy-duty vehicles and engines to effectuate the best reading of Clean Air Act (CAA) section 202(a). In the notice, we propose that CAA section 202(a) does not authorize the EPA to prescribe emission standards to address global climate change concerns and, on that basis, propose to rescind EPA's prior 2009 findings that GHG emissions from new motor vehicles and engines contribute to air pollution which may endanger public health or welfare. In the notice, we further propose, in the alternative, to rescind those prior findings because the EPA analyzed unreasonably the scientific record and because developments cast significant doubt on the reliability of the findings. Lastly, in the notice, we propose to repeal all GHG emission standards on the alternative basis that no requisite technology for vehicle and engine emission control can address the global climate change concerns identified in the findings without risking greater harms to public health and welfare.

The “Reconsideration of 2009 Endangerment Finding and Greenhouse Gas Vehicle Standards” proposal was signed on July 29, 2025 and will be published separately in the Federal Register. The pre-publication version is available at https://www.epa.gov/regulations-emissions-vehicles-and-engines/proposed-rule-reconsideration-2009-endangerment-finding. Supporting documents can be found in the docket for this rule established under Docket ID No. EPA-HQ-OAR-2025-0194.

Participation in Virtual Public Hearing

EPA is not holding in-person public meetings at this time. EPA will begin pre-registering speakers for the hearing upon publication of this document in the Federal Register. To register to speak at the virtual hearing, please contact the person listed in the FOR FURTHER INFORMATION CONTACT section, preferably by email to EPA-MobileSource-Hearings@epa.gov. Registration will be open through the last day of the hearing; however, we ask that you pre-register by August 12, 2025 if you intend to testify or are requesting special accommodations.

Each commenter will have 3 minutes to provide oral testimony. EPA may ask clarifying questions during the oral presentations but will not respond to the presentations at that time. EPA recommends submitting the text of your oral comments as written comments to the rulemaking docket. Written statements and supporting information submitted during the comment period will be considered with the same weight as oral comments and supporting information presented at the public hearing.

Please note that any updates made to any aspect of the hearing logistics, including any change to the date of the hearing or a potential additional session on August 21, 2025, will be posted online at https://www.epa.gov/regulations-emissions-vehicles-and-engines/proposed-rule-reconsideration-2009-endangerment-finding. While EPA expects the hearing to go forward as set forth above, please monitor our website or contact the person listed in the FOR FURTHER INFORMATION CONTACT section to determine if there are any updates. EPA does not intend to publish a document in the Federal Register announcing updates.

If you require the services of a translator or special accommodations such as audio description, please preregister for the hearing and describe your needs by August 12, 2025. EPA may not be able to arrange accommodations without advance notice.

How can I get copies of the proposed action and other related information?

EPA has established a docket for this action under Docket ID No. EPA-HQ-OAR-2025-0194. EPA has also developed a website for this proposal, which is available at https://www.epa.gov/regulations-emissions-vehicles-and-engines/proposed-rule-reconsideration-2009-endangerment-finding. Please refer to the notice of proposed rulemaking for detailed information on accessing information related to the proposal.

Authority: 42 U.S.C. 7401-7675.

Dated: July 29, 2025.
William Charmley,
Director, Assessment and Standards Division, Office of Transportation and Air Quality, Office of Air and Radiation.

[FR Doc. 2025-14555 Filed 7-31-25; 8:45 am]

BILLING CODE 6560-50-P